ENVIRONMENTAL PROTECTION AGENCY

[EPA-HQ-OECA-2005-0033; FRL-8050-6]

Agency Information Collection Activities; Submission for OMB Review and Approval; Comment Request; NESHAP for Flexible Polyurethane Foam Fabrication EPA ICR Number 2027.03, OMB Number 2060-0516

AGENCY: Environmental Protection Agency (EPA).

ACTION: Notice.

SUMMARY: In compliance with the Paperwork Reduction Act (PRA) (44 U.S.C. 3501 et seq.), this document announces that an Information Request (ICR) has been forwarded to the Office of Management and Budget (OMB) for review and approval. This is a request to renew an existing approved collection. The ICR, abstracted below, describes the nature of the information collection and its estimated burden and costs.

DATES: Additional comments may be submitted on or before April 28, 2006.

ADDRESSES: Submit your comments, referencing Docket ID number EPA-HQ-OECA-2005-0033, to (1) EPA online using http://www.regulations.gov (our preferred method), by e-mail to docket.oeca@epa.gov, or by mail to: EPA Docket Center (EPA/DC), Environmental Protection Agency, Enforcement and Compliance Docket and Information Center, Mail Code 2201T, 1200 Pennsylvania Avenue, NW., Washington, DC 20460, and (2) OMB by mail to: Office of Information and Regulatory Affairs, Office of Management and Budget (OMB), Attention: Desk Officer for EPA, 725 17th Street, NW., Washington, DC 20503.

FOR FURTHER INFORMATION CONTACT: Learia Williams, Compliance Assessment and Media Programs Division (CAMPD), Office of Compliance, (Mail Code 2223A), Environmental Protection Agency, 1200 Pennsylvania Avenue, NW., Washington, DC 20460; telephone number: (202) 564-4113; fax number: (202) 564-0050; e-mail address: williams.learia@epa.gov.

SUPPLEMENTARY INFORMATION: EPA has submitted the following ICR to OMB for review and approval according to the procedures prescribed in 5 CFR 1320.12. On May 6, 2005 (70 FR 24020), EPA sought comments on this ICR pursuant to 5 CFR 1320.8(d). EPA received no comments. Any additional comments on this ICR should be submitted to EPA and OMB within 30 days of this notice.

EPA has established a public docket for this ICR under Docket ID number EPA-HQ-OECA-2005-0033, which is available for online viewing at http://www.regulations.gov, or in person viewing at the Enforcement and Compliance Docket in the EPA Docket Center (EPA/DC), EPA West, Room B102, 1301 Constitution Avenue, NW., Washington, DC. The EPA/DC Public Reading Room is open from 8 a.m. to 4:30 p.m., Monday through Friday, excluding legal holidays. The telephone number for the Reading Room is (202) 566-1744, and the telephone number for the Enforcement and Compliance Docket is (202) 566-1752.

Use EPA's electronic docket and comment system at http://www.regulations.gov, to submit or view public comments, access the index listing of the contents of the docket, and to access those documents in the docket that are available electronically. When in the system, select “docket search,” then key in the docket ID number identified above. Please note that EPA's policy is that public comments, whether submitted electronically or in paper, will be made available for public viewing at http://www.regulations.gov, as EPA receives them and without change, unless the comment contains copyrighted material, Confidential Business Information (CBI), or other information whose public disclosure is restricted by statute. For further information about the electronic docket, go to http://www.regulations.gov.

Title: NESHAP for Flexible Polyurethane Foam Fabrication (Renewal).

ICR Status: This ICR is scheduled to expire on May 31, 2006. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, and displayed either by publication in the Federal Register or by other appropriate means, such as on the related collection instrument or form, if applicable. The display of OMB control numbers in certain EPA regulations is consolidated in 40 CFR part 9.

Abstract: The National Emission Standards for Hazardous Air Pollutants (NESHAP) for flexible polyurethane foam fabrication were proposed on August 8, 2001 (66 FR 41729), and promulgated on April 14, 2003 (68 FR 18070). These standards apply to each existing, new, or reconstructed flexible polyurethane foam fabrication. For the purpose of the rule, flexible polyurethane foam fabrication is divided in the following two subcategories: (1) Loop slitter adhesive use, and (2) flame lamination.

Owners or operators of the affected facilities must make the following notification: (1) Initial notification, (2) notification of compliance status, and (3) notification of intent to conduct a performance test (flame lamination only). Affected sources must submit compliance reports, and a startup, shutdown, malfunction report. Owners or operators are also required to maintain records of the occurrence and duration of any startup, shutdown, or malfunction (flame lamination only). Annual compliance reports are only required for loop slitter facilities and semiannual compliance reports for flame lamination facilities.

Any owner or operator subject to the provisions of this subpart must maintain a file of these measurements, and retain the file for at least five years following the collection of such measurements, maintenance reports, and records. All reports are sent to the delegated state or local authority. In the event that there is no such delegated authority, the reports are sent directly to the EPA regional office.

Burden Statement: The annual public reporting and recordkeeping burden for this collection of information is estimated to average 89 hours per response. Burden means the total time, effort, or financial resources expended by persons to generate, maintain, retain, or disclose or provide information to or for a Federal agency. This includes the time needed to review instructions; to develop, acquire, install, and utilize technology and systems for the purposes of collecting, validating, and verifying information, processing and maintaining information, and disclosing and providing information; to adjust the existing ways to comply with any previously applicable instructions and requirements which have subsequently changed; to train personnel to respond to a collection of information; to search data sources; to complete and review the collection of information; and to transmit or otherwise disclose the information.

Respondents/Affected Entities: Owner or operator of each flexible polyurethane foam fabrication facility.

Estimated Number of Respondents: 11.

Frequency of Response: On occasion, annually, semiannually and initially.

Estimated Total Annual Hour Burden: 12,303.

Estimated Total Annual Costs: $1,004,834, which includes $997 annualized capital/startup costs, $1,674 annual O&M costs, and $1,002,163 annual labor costs.

Changes in the Estimates: There was an increase of 11,092 hours in the total estimated burden currently identified in the OMB Inventory of Approved ICR Burdens. The increase in burden hours from the most recently approved ICR is due, in part, to an increase of new sources. However, most of the burden increase is due to accounting for full compliance with the standard by all existing respondents. There is also an increase in the annual cost, which is due to the revised hourly rates from the United States Department of Labor.

There are no changes in the capital/startup and operations and maintenance costs from the previous ICR.

Dated: March 21, 2006.
Oscar Morales,
Director, Collection Strategies Division.

[FR Doc. E6-4566 Filed 3-28-06; 8:45 am]

BILLING CODE 6560-50-P